DEPARTMENT OF ENERGY

Federal Energy Regulatory Commission

[Docket No. RP00-223-004]

Northern Natural Gas Company; Notice of Compliance Filing

May 3, 2001.

Take notice that on April 30, 2001 Northern Natural Gas Company (Northern) tendered for filing in its FERC Gas Tariff, Fifth Revised Volume No. 1, the following tariff sheets proposed to be effective May 1, 2001:

Sixth Revised Sheet No. 1

Seventh Revised Sheet No. 2

1 Revised 55 Revised Sheet No. 51

53 Revised Sheet No. 53

Fourth Revised Sheet No. 115

Second Revised Sheet No. 125A

First Revised Sheet No. 125B

First Revised Sheet No. 125C

First Revised Sheet No. 125D

First Revised Sheet No. 125E

First Revised Sheet No. 125F

Fifth Revised Sheet No. 143

Eleventh Revised Sheet No. 144

Fourth Revised Sheet No. 145

Seventh Revised Sheet No. 206

Seventh Revised Sheet No. 220

Third Revised Sheet No. 251

Fifth Revised Sheet No. 252

Fifth Revised Sheet No. 255

Fourth Revised Sheet No. 261

1 Rev Sub Sixth Revised Sheet No. 263A

Fourth Revised Sheet No. 264

Seventh Revised Sheet No. 265

Third Revised Sheet No. 271

Fourth Revised Sheet No. 290

Fifth Revised Sheet No. 300

Fifth Revised Sheet No. 302

Fourth Revised Sheet No. 414

Third Revised Sheet No. 415

Third Revised Sheet No. 416

Northern states that the reason for this filing is to comply with the Commission's Order dated April 16, 2001 in Docket No. RP00-223-003. Pursuant to the April 16 Order, Northern has revised Tariff Sheet No. 125A to reflect the offering of Limited Firm Throughput Service (LFT) in the Field Area year-round and in the Market Area during the summer (April through October). Tariff Sheet No. 125D has been revised to incorporate Northern's intent to credit Shippers when a Limited Day is called pursuant to Northern's Supplemental Filing dated May 9, 2000. In addition, Northern has revised Tariff Sheet Nos. 125A and 125C to delete the reference to Northern's EBB and reflect the use of Northern's Internet web site.

In addition, Northern hereby submits for filing as part of its F.E.R.C. Gas Tariff, Fifth Revised Volume No. 1, an original and five copies of Substitute 56 Revised Sheet No. 51 and Substitute Seventh Revised Sheet No. 263A proposed to be effective May 19, 2001 to incorporate LFT references on these substitute pages.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be field electronically via the internet in lieu of paper. See, 18 CFR 385.2001(a)(1)(iii) and the instructions on the Commission's web site at http://www.ferc.fed.us/efi/doorbell.htm.

David P. Boergers,
Secretary.

[FR Doc. 01-11667 Filed 5-8-01; 8:45 am]

BILLING CODE 6717-01-M